DEPARTMENT OF THE INTERIOR

Fish and Wildlife Service

[Docket No. FWS-R4-ES-2012-0081; FF04EF1000 123 FX.ES11130400000D2]

Marine Mammal Protection Act; Draft Revised Stock Assessment Reports for Two Stocks of West Indian Manatee

AGENCY: Fish and Wildlife Service, Interior.

ACTION: Notice of availability; request for comments.

SUMMARY: In accordance with the Marine Mammal Protection Act of 1972, as amended (MMPA), and its implementing regulations, we, the U.S. Fish and Wildlife Service (Service) have developed draft revised marine mammal stock assessment reports (SAR) for two West Indian manatee stocks: the Puerto Rico stock of Antillean manatees and the Florida manatee stock. We now make the SARs available for public review and comment.

DATES: Comments must be received by June 26, 2013.

ADDRESSES: Document Availability: You may view the draft revised stock assessment reports on http://www.regulations.gov under Docket No. FWS-R4-ES-2012-0081. You may also view them in Adobe Acrobat format at http://www.fws.gov/caribbean/es/manatee.html (Puerto Rico stock) or at http://www.fws.gov/northflorida/ (Florida stock). Alternatively, you may contact the Field Supervisor, U.S. Fish and Wildlife Service, Caribbean Ecological Services Office, P.O. Box 491, Boquerón, PR 00622; telephone: 787-851-7297 (Puerto Rico stock) or the Field Supervisor, U.S. Fish and Wildlife Service, North Florida Ecological Services Office, 7915 Baymeadows Way, Suite 200, Jacksonville, FL 32256-7517; telephone: 904-731-3336 (Florida stock).

Written Comments: You may submit comments on the draft revised stock assessment reports by one of the following methods:

• U.S. mail or hand-delivery: Public Comments Processing, Attn: Docket No. FWS-R4-ES-2012-0081; Division of Policy and Directives Management; U.S. Fish and Wildlife Service; 4401 N. Fairfax Drive, MS 2042-PDM; Arlington, VA 22203; or

• Federal eRulemaking Portal: http://www.regulations.gov. Follow the instructions for submitting comments to Docket No. FWS-R4-ES-2012-0081.

Please indicate to which revised stock assessment report(s)—the Antillean manatee or Florida manatee—your comments apply. We will not accept email or faxes. We will post all comments on http://www.regulations.gov. This generally means that we will post any personal information you provide us.

FOR FURTHER INFORMATION CONTACT: Jan Zegarra, Caribbean Ecological Services Field Office, 787-851-7297, ext. 220 (telephone), for information about the draft revised SAR for the Puerto Rico stock of Antillean manatees, and Jim Valade, North Florida Ecological Services Office, 904-731-3116 (telephone), for information about the draft revised SAR for the Florida manatee. Persons who use a telecommunications device for the deaf may call the Federal Information Relay Service at 800-877-8339.

SUPPLEMENTARY INFORMATION:

Background

We announce for review and comment the availability of draft revised marine mammal stock assessment reports (SAR) for the Puerto Rico stock of Antillean manatees (Trichechus manatus manatus) and the Florida manatee stock (Trichechus manatus latirostris).

Under the MMPA (16 U.S.C. 1361 et seq.) and its implementing regulations in the Code of Federal Regulations (CFR) at 50 CFR part 18, we regulate the taking, possession, transportation, purchasing, selling, offering for sale, exporting, and importing of marine mammals. One of the goals of the MMPA is to ensure that stocks of marine mammals occurring in waters under U.S. jurisdiction do not experience a level of human-caused mortality and serious injury that is likely to cause the stock to be reduced below its optimum sustainable population level (OSP). OSP is defined under the MMPA as ” * * * the number of animals which will result in the maximum productivity of the population or the species, keeping in mind the carrying capacity of the habitat and the health of the ecosystem of which they form a constituent element” (16 U.S.C. 1362(3)(9)).

To help accomplish the goal of maintaining marine mammal stocks at their OSPs, section 117 of the MMPA requires the Service and the National Marine Fisheries Service (NMFS) to prepare a SAR for each marine mammal stock that occurs in waters under U.S. jurisdiction. Each SAR must include:

1. A description of the stock and its geographic range;

2. A minimum population estimate, maximum net productivity rate, and current population trend;

3. An estimate of human-caused mortality and serious injury;

4. A description of commercial fishery interactions;

5. A categorization of the status of the stock; and

6. An estimate of the potential biological removal (PBR) level.

The MMPA defines the PBR as “the maximum number of animals, not including natural mortalities, that may be removed from a marine mammal stock while allowing that stock to reach or maintain its OSP” (16 U.S.C. 1362(3)(20)). The PBR is the product of the minimum population estimate of the stock (Nmin); one-half the maximum theoretical or estimated net productivity rate of the stock at a small population size (Rmax); and a recovery factor (Fr) of between 0.1 and 1.0. This can be written as:

­

PBR = (Nmin)(½ of the Rmax)(Fr)

Section 117 of the MMPA requires the Service and NMFS to review the SARs (a) at least annually for stocks that are specified as strategic stocks, (b) at least annually for stocks for which significant new information is available, and (c) at least once every 3 years for all other stocks. If our review of the status of a stock indicates that it has changed or may be more accurately determined, the SAR must be revised accordingly.

A strategic stock is defined in the MMPA as a marine mammal stock “(a) for which the level of direct human-caused mortality exceeds the PBR level; (b) which, based on the best available scientific information, is declining and is likely to be listed as a threatened species under the Endangered Species Act of 1973, as amended (16 U.S.C. 1531 et seq.) [the “ESA”], within the foreseeable future; or (c) which is listed as a threatened or endangered species under the ESA, or is designated as depleted under [the MMPA]” (16 U.S.C. 1362(3)(19)).

SARs for both the Puerto Rico stock of Antillean manatees and the Florida manatee were last revised on December 30, 2009. Both are classified as strategic stocks by virtue of their listing as an endangered species under the ESA. The Service reviewed the SARs in 2010 and concluded that a revision of these SARs was not warranted at that time because the status of these stocks had not changed since 2009, nor could they be more accurately determined. Upon subsequent review in 2011, the Service determined that revision was warranted for both stocks. These draft revised SARs have been written in consideration of the best scientific information available with advice from the Atlantic Scientific Review Group.

The following table summarizes the information we are now making available in the draft revised stock assessment reports for the Puerto Rico stock of Antillean manatees and Florida manatees, which lists the stock's Nmin, Rmax, Fr, PBR, annual estimated human-caused mortality and serious injury, and status. After consideration of any public comments we receive, the Service will revise and finalize the SARs as appropriate for these stocks. We will publish a notice of availability and summary of the final SARs, including responses to submitted comments.

Summary: Draft Revised Stock Assessment Reports for the Antillean and Florida Manatee
West Indian manatee stocks | Nmin | Rmax | Fr | PBR | Annual estimated human-caused mortality (5-year average) | Stock status
Antillean manatees (Puerto Rico) | 178 | 0.04 | 0.1 | 0 | 3 | Strategic.
Florida manatees | 4,834 | 0.062 | 0.1 | 14 | 94 | Strategic.

Public Availability of Comments

Before including your address, phone number, email address, or other personal identifying information in your comment, you should be aware that your entire comment—including your personal identifying information—may be made publicly available at any time. While you can ask us in your comment to withhold your personal identifying information from public review, we cannot guarantee that we will be able to do so.

References

In accordance with section 117(b)(1) of the MMPA, we include in this notice a list of the sources of information or published reports upon which we based the draft revised SAR. The Service consulted technical reports, conference proceedings, refereed journal publications, and scientific studies prepared or issued by Federal agencies, nongovernmental organizations, and individuals with expertise in the fields of marine mammal biology and ecology, population dynamics, modeling, and commercial fishing practices.

These agencies and organizations include: The Service, the U.S. Geological Survey, the National Oceanic and Atmospheric Administration, the Puerto Rico Department of Natural and Environmental Resources, the Georgia Department of Natural Resources, the Florida Fish and Wildlife Conservation Commission, Hubbs Sea World Research Institute, the Gulf and Caribbean Fisheries Institute, the Caribbean Stranding Network, and Mote Marine Laboratory. In addition, the Service consulted publications such as the Journal of Wildlife Management, Marine Mammal Science, Marine Pollution Bulletin, Marine Technology Society Journal, Wildlife Monographs, Gulf and Caribbean Research, Journal of Zoo and Wildlife Medicine, Molecular Ecology, and Molecular Ecology Notes, as well as other refereed journal literature, technical reports, and data sources in the development of these SARs.

A complete list of citations to the scientific literature relied on for each of these SARs is available on the Federal eRulemaking portal (http://www.regulations.gov) under Docket No. FWS-R4-ES-2012-0081. The list can also be viewed in Adobe Acrobat format at http://www.fws.gov/caribbean/es/manatee.html or at http://www.fws.gov/northflorida/.

In the past the Service has published a complete list of citations to each technical report, scientific paper, and journal publication upon which the draft revised SAR is based at the end of the notice of availability. However, in order for the public to more easily understand how the agency has used and interpreted the sources relied upon in the draft revised SARs, the Service is making the complete list of literature citations available at the end of each of the draft revised SARs. In recognition that the public typically reviews our draft SARs, or any revision thereof, in conjunction with the list of supporting literature citations found at the end of draft SARs, the Service believes it is unnecessary to additionally publish the complete list of references in this notice of availability. Instead, we are only including the complete list of references at the end of the draft revised SARs, which is available to the public through the Government's regulations portal and our own Web pages (see ADDRESSES section above).

Authority

The authority for this action is the Marine Mammal Protection Act of 1972, as amended (16 U.S.C. 1361 et al.).

Dated: March 14, 2013.
Stephen Guertin,
Deputy Director, Fish and Wildlife Service.

[FR Doc. 2013-07157 Filed 3-27-13; 8:45 am]

BILLING CODE 4310-55-P